DEPARTMENT OF ENERGY

Federal Energy Regulatory Commission

Combined Notice of Filings #3

Take notice that the Commission received the following exempt wholesale generator filings:

Docket Numbers: EG15-109-000.

Applicants: Little Elk Wind Project, LLC.

Description: Self-Certification of EG or FC of Little Elk Wind Project, LLC.

Filed Date: 8/5/15.

Accession Number: 20150805-5092.

Comments Due: 5 p.m. ET 8/26/15.

Docket Numbers: EG15-110-000.

Applicants: Patriot Wind Farm, LLC.

Description: Notice of Self-Certification of Exempt Wholesale Generator Status of Patriot Wind Farm, LLC.

Filed Date: 8/5/15.

Accession Number: 20150805-5100.

Comments Due: 5 p.m. ET 8/26/15.

Take notice that the Commission received the following electric rate filings:

Docket Numbers: ER15-2384-000.

Applicants: Northern States Power Company, a Minnesota corporation.

Description: Section 205(d) Rate Filing: 2015-8-5_NSP-CHAK-SSA-582-0.0.0-Filing to be effective 10/4/2015.

Filed Date: 8/5/15.

Accession Number: 20150805-5091.

Comments Due: 5 p.m. ET 8/26/15.

Docket Numbers: ER15-2385-000.

Applicants: NorthWestern Corporation.

Description: NorthWestern Corporation submits Average System Cost Filing for Sales of Electric Power to the Bonneville Power Administration, FY 2016-2017.

Filed Date: 8/5/15.

Accession Number: 20150805-5118.

Comments Due: 5 p.m. ET 8/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2015.
Nathaniel J. Davis, Sr.,
Deputy Secretary.

[FR Doc. 2015-19685 Filed 8-10-15; 8:45 am]

BILLING CODE 6717-01-P